DEPARTMENT OF THE INTERIOR

National Park Service

[NPS-WASO-NAGPRA-NPS0038697; PPWOCRADN0-PCU00RP14.R50000]

Notice of Inventory Completion: San Bernardino County Museum, Redlands, CA

AGENCY: National Park Service, Interior.

ACTION: Notice.

SUMMARY: In accordance with the Native American Graves Protection and Repatriation Act (NAGPRA), the San Bernardino County Museum has completed an inventory of human remains and associated funerary objects and has determined that there is a cultural affiliation between the human remains and associated funerary objects and Indian Tribes or Native Hawaiian organizations in this notice.

DATES: Repatriation of the human remains and associated funerary objects in this notice may occur on or after October 15, 2024.

ADDRESSES: Tamara Serrao-Leiva, San Bernardino County Museum, 2024 Orange Tree Lane, Redlands, CA 92374, telephone (909) 798-8623, email tserrao-leiva@sbcm.sbcounty.gov.

SUPPLEMENTARY INFORMATION: This notice is published as part of the National Park Service's administrative responsibilities under NAGPRA. The determinations in this notice are the sole responsibility of the San Bernardino County Museum, and additional information on the determinations in this notice, including the results of consultation, can be found in its inventory or related records. The National Park Service is not responsible for the determinations in this notice.

Abstract of Information Available

Human remains representing at least one individual have been identified. The 12 associated funerary objects include a pendant, projectile points, pipe stem fragments, pottery sherds, faunal fragments, flakes, shell fragments, ground stone, stone tools, projectile points, shell beads, and historic beads. San Bernadino County Museum site numbers SBCM-815 (also SBCM-5868) are considered the same site to the culturally affiliated tribes list below. This site was recorded by B. McCown on March 1944 and was excavated by McCown in 1948 through the Archaeological Survey Association (ASA) (McCown Site #7, Santa Margarita River) in Fallbrook, CA. In Collected Papers of Benjamin Ernest McCown, Excavation of Fallbrook Site No. 7, Archaeological Survey Association of Southern California Paper Number Six, 1964, pgs 61-72, McCown confirms the presence of a human cremation that he excavated from April 10, 1948, to July 16, 1948. McCown writes that only a small amount of the bones was left in place due to the flood waters, but that the “remains suggest an adult of about middle age” (page 64). Based on this reference, there seems to have been much more collected than is present at San Bernardino County Museum. The collection was donated to the county museum in two instances, hence the different catalog numbers. The first donation was in 1956 and the second when the ASA disbanded and donated McCown's collection to the county museum in the early 2000s.

Human remains representing at least one individual has been identified. The six associated funerary objects reflected in the record are ground stone, lithics, ceramics, faunal bone, worked shell (beads), and ecofacts. San Bernadino County Museum site number SBCM-5907 is in the Murrieta Creek region of Riverside County, about one mile south of Old Town, Temecula. In 1953 a note included in the Accession file connects this site to Vail Ranch by the “Temeku fork of River.” Vail Ranch was an 87,000-acre cattle ranch purchased by Walter Vail in 1905. His ranch headquarters was located along Temecula Creek in an area now bordered by Temecula Parkway. The site was first documented 3/30/1952 and later excavated by Benjamin McCown who donated the collection to the museum in 1956. No known hazardous substances were used to treat this collection.

Cultural Affiliation

Based on the information available and the results of consultation, cultural affiliation is reasonably identified by the geographical location or acquisition history of the human remains and associated funerary objects described in this notice.

Determinations

The San Bernardino County Museum has determined that:

• The human remains described in this notice represent the physical remains of two individuals of Native American ancestry.

• The 18 objects described in this notice are reasonably believed to have been placed intentionally with or near individual human remains at the time of death or later as part of the death rite or ceremony.

• There is a connection between the human remains and associated funerary objects described in this notice and the La Jolla Band of Luiseno Indians, California; Pala Band of Mission Indians; Pauma Band of Luiseno Mission Indians of the Pauma & Yuima Reservation, California; Pechanga Band of Indians (previously listed as Pechanga Band of Luiseno Mission Indians of the Pechanga Reservation, California); Rincon Band of Luiseno Mission Indians of the Rincon Reservation, California; and the Soboba Band of Luiseno Indians, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 15, 2024. If competing requests for repatriation are received, the San Bernardino County Museum must determine the most appropriate requestor prior to repatriation. Requests for joint repatriation of the human remains and associated funerary objects are considered a single request and not competing requests. The San Bernardino County Museum is responsible for sending a copy of this notice to the Indian Tribes and Native Hawaiian organizations identified in this notice.

Authority: Native American Graves Protection and Repatriation Act, 25 U.S.C. 3003, and the implementing regulations, 43 CFR 10.10.

Dated: September 5, 2024.
Melanie O'Brien,
Manager, National NAGPRA Program.

[FR Doc. 2024-20867 Filed 9-12-24; 8:45 am]

BILLING CODE 4312-52-P